DEPARTMENT OF STATE

[Public Notice 5910]

Advisory Committee on International Postal and Delivery Services

AGENCY: Department of State.

ACTION: Notice of creation of Advisory Committee and call for applications for membership.

Creation of Advisory Committee: The Secretary of State announces the creation of the Advisory Committee on International Postal and Delivery Services in fulfillment of the provisions of the 2006 Postal Accountability and Enhancement Act (Pub. L. 109-435) and in accordance with the Federal Advisory Committee Act.

Purpose: The purpose of the Advisory Committee shall be to serve the Department of State in an advisory capacity with respect to the formulation, coordination, and oversight of foreign policy related to international postal services and other international delivery services. The Committee will provide a forum for government employees, representatives of the industry sector and members of the public to present their advice and views directly to the Department of State.

Membership: The members of the Committee will be selected by the Department of State from U.S. Government agencies; associations that represent mailers, suppliers and private sector delivery companies; and stakeholders in international postal and delivery services. The Committee, which will have about 21 members, will meet as necessary, but not less frequently than once per year. The initial meetings of the Committee will be held in Washington, DC. Committee members will receive no compensation for their service on the Committee or reimbursement for expenses (for example, travel costs) related to their Committee membership. In accordance with the Federal Advisory Committee Act, the Committee shall be fairly balanced in its membership in terms of the points of view to be represented and the functions to be performed.

Addresses and deadline: Those wishing to be considered for membership should send a statement of interest and qualifications to the Department of State by one of the following methods:

• E-mail: DelehantyDM@state.gov and WoodCS@state.gov.

• Fax: (202) 647-8902.

• Mail: Mr. Dennis Delehanty, Foreign Affairs Officer, Office of Technical Specialized Agencies (IO/T), Bureau of International Organization Affairs, Department of State, 2201 C Street, NW., Room 5333, Washington, DC 20520-6319.

Statements should reach the Department of State on or before October 19, 2007.

For further information, please contact Dennis Delehanty, Office of Technical Specialized Agencies (IO/T), Bureau of International Organization Affairs, U.S. Department of State, at (202) 647-4197.

Dated: September 21, 2007.
Dennis M. Delehanty,
Foreign Affairs Officer, Department of State.

[FR Doc. E7-19105 Filed 9-26-07; 8:45 am]

BILLING CODE 4710-19-P